DEPARTMENT OF ENERGY

Federal Energy Regulatory Commission

[Docket No. IN06-3-003]

Energy Transfer Partners, L.P., Energy Transfer Company, ETC Marketing Ltd., Houston Pipeline Company, Oasis Pipeline, L.P., Oasis Pipeline Company Texas, L.P., ETC Texas Pipeline Ltd., Oasis Division; Supplemental Notice of Designation of Commission Staff

March 3, 2008.

On December 20, 2007, a notice was issued designating the staff of the Office of Enforcement as non-decisional in deliberations by the Commission in this docket, with certain limited exceptions. Exceptions to this designation are the Director of the Office of Enforcement and the Directors of the Divisions of Investigations, Energy Market Oversight, Audits, and Financial Regulation in the Office of Enforcement. This supplemental notice designates Shauna Coleman, an attorney in the Division of Investigations, Office of Enforcement, as an exception to the designation of the staff of the Office of Enforcement as non-decisional. Ms. Coleman joined the Commission after the December 27, 2007 notice was issued and did not participate in the investigation at issue in this proceeding.

Kimberly D. Bose,
Secretary.

[FR Doc. E8-4731 Filed 3-10-08; 8:45 am]

BILLING CODE 6717-01-P